DEPARTMENT OF STATE

[Public Notice 5302]

Shipping Coordinating Committee; Notice of Meeting

The Shipping Coordinating Committee (SHC) will conduct an open meeting at 1:30 p.m. on Tuesday, March 14, 2006, in Room 2415 of the United States Coast Guard Headquarters Building, 2100 Second Street SW., Washington, DC, 20593-0001. The primary purpose of the meeting is to prepare for the 10th session of the Sub-Committee on Bulk Liquids and Gases (BLG) to be held at the International Maritime Organization (IMO) Headquarters in London, England from April 3 to April 8, 2006.

The primary matters to be considered include:

—Evaluation of safety and pollution hazards of chemicals and preparation of consequential Amendments.

—Development of guidelines for uniform implementation of the 2004 Ballast Water Management Convention.

—Requirements for protection of personnel involved in the transport of cargoes containing toxic substances in all types of tankers.

—Development of provisions for gas-fuelled ships.

—Amendments to resolution MEPC.2(VI).

—Development of standards regarding rate of discharge for sewage.

—Consideration of International Association of Classification Societies unified interpretations.

—Casualty analysis.

—Safety aspects of ballast water management.

—Guidelines on equivalent methods to reduce on-board NOX emission.

—Guidelines on other technological methods verifiable or enforceable to limit SOx emissions.

—Review of MARPOL Annex VI and the NOX Technical Code.

—Amendments to MARPOL Annex I for the prevention of marine pollution during oil transfer operations between ships at sea.

Hard copies of documents associated with the 10th session of BLG will be available at this meeting. To request further copies of documents please write to the address provided below.

Members of the public may attend this meeting up to the seating capacity of the room. Interested persons may seek information by writing to Mr. Thomas Felleisen, Commandant (G-PSO-3), U.S. Coast Guard Headquarters, 2100 Second Street SW., Room 1214, Washington, DC 20593-0001 or by calling (202) 267-0086.

Dated: February 23, 2006.
Clay Diamond,
Executive Secretary, Shipping Coordinating Committee, Department of State.

[FR Doc. E6-3001 Filed 3-1-06; 8:45 am]

BILLING CODE 4710-09-P